ENVIRONMENTAL PROTECTION AGENCY

[FRL-7545-2]

Public Water System Supervision Program Revision for the State of North Dakota

AGENCY: Environmental Protection Agency (EPA).

ACTION: Notice.

SUMMARY: The State of North Dakota has revised its Public Water System Supervision (PWSS) primacy program by adopting regulations for the Public Water System Definition Rule, Administrative Penalty Authority Rule, Consumer Confidence Report Rule (CCR), Variances and Exemptions Rule, Interim Enhanced Surface Water Treatment Rule (IESWTR), and Disinfectants/Disinfection Byproducts Rule (D/DBPR). Having determined that these revisions meet all pertinent requirements in the Safe Drinking Water Act (SDWA), and EPA's implementing regulations, the EPA approves them.

Today's approval action does not extend to public water systems in Indian Country. Please see SUPPLEMENTARY INFORMATION, Item B.

DATES: Any member of the public is invited to submit written comments and/or request a public hearing on this determination by September 15, 2003. Please see SUPPLEMENTARY INFORMATION, Item C, for information on submitting comments and requesting a hearing. If no hearing is requested or granted, then this action shall become effective September 15, 2003. If a public hearing is requested and granted, then this determination shall not become effective until such time following the hearing as the Regional Administrator (RA) issues an order affirming or rescinding this action.

ADDRESSES: Written comments and requests for a public hearing should be addressed to: Robert E. Roberts, Regional Administrator, c/o Anthony Q. DeLoach (8P-W-MS), U.S. EPA, Region 8, 999 18th Street, Suite 300, Denver, CO 80202-2466.

All documents relating to this determination are available for inspection at the following locations: (1) U.S. EPA, Region 8, Municipal Systems Unit, 999 18th Street (4th Floor), Denver, CO 80202-2466; (2) North Dakota Department of Health, Environmental Health Section, P.O. Box 5520 Bismarck, ND 58506-5520.

FOR FURTHER INFORMATION CONTACT: Anthony Q. DeLoach, Municipal Systems Unit, EPA, Region 8 (8P-W-MS), 999 18th Street, Suite 300, Denver, CO 80202-2466, 303-312-6070.

SUPPLEMENTARY INFORMATION: EPA approved North Dakota's application for assuming primary enforcement authority for the PWSS program, pursuant to section 1413 of SDWA, 42 U.S.C. 300g-2, and 40 CFR part 142. NDDH administers North Dakota's PWSS program. The State of North Dakota has revised its PWSS primacy program by adopting regulations for the Public Water System Definition Rule, Administrative Penalty Authority Rule, CCR, Variances and Exemptions Rule, IESWTR, and D/DBPR that correspond to regulations for 40 CFR part 141, subpart O.

A. Why Are Revisions to State Programs Necessary?

States with primary PWSS enforcement authority (see 40 CFR 142.10(a)) must comply with the requirements of 40 CFR part 142 for maintaining primacy. They must adopt regulations that are at least as stringent as NPDWRs at 40 CFR part 141. Changes to state programs may be necessary as federal primacy requirements change, as states must adopt all new and revised NPDWRs in order to retain primacy.

B. How Does Today's Action Affect Indian Country (18 U.S.C. 115) in North Dakota?

North Dakota is not authorized to carry out its primacy program in Indian country, as defined in 18 U.S.C. 1151. This includes:

1. Lands within the exterior boundaries of the following Indian Reservations located within or abutting the State of North Dakota:

a. Fort Totten Indian Reservation;

b. Fort Berthold Indian Reservation;

c. Standing Rock Indian Reservation;

d. Turtle Mountain Indian Reservation;

2. Any land held in trust by the U.S. for an Indian tribe, and

3. Any other land, whether on or off a reservation that qualifies as Indian country.

Therefore, this action has no effect in Indian country where EPA will continue to implement and administer the Drinking Water program in these lands.

C. Requesting a Hearing and Submitting Written Comments.

Any request for a public hearing shall include the following: (1) The name, address, and telephone number of the individual, organization, or other entity requesting a hearing; (2) A brief statement of the requesting person's interest in the RA's determination and of information that the requesting person intends to submit at such hearing; and (3) the signature of the individual making the request, or, if the request is made on behalf of an organization or other entity, the signature of the responsible official of the organization or other entity.

Notice of any hearing shall be given not less than fifteen (15) days prior to the time scheduled for the hearing. Such notice will be made by the RA in the Federal Register and in newspapers of general circulation in the State of North Dakota. A notice will also be sent to the person(s) requesting the hearing as well as to the State of North Dakota. The hearing notice will include a statement of purpose, information regarding time and location, and the address and telephone number where interested persons may obtain further information. A final determination will be made upon review of the hearing record.

Frivolous or insubstantial requests for a hearing may be denied by the RA. However, if a substantial request is made within thirty (30) days after this notice, a public hearing will be held.

Please bring this notice to the attention of any persons known by you to have an interest in this determination.

Dated: July 30, 2003.
Robert E. Roberts,
Regional Administrator, Region 8.

[FR Doc. 03-20893 Filed 8-14-03; 8:45 am]

BILLING CODE 6560-50-P